DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to a proposed highway project, replacement of Morrill Canyon Bridge (Bridge No. 56 0169, Post Mile 3.08) and Strawberry Creek Bridge (Bridge No. 56 0180 Post Mile 53.5) on State Route 74 in the County of Riverside, State of California. Those actions grant licenses, permits, and approvals for the project.

DATES: A claim seeking judicial review of the Federal agency actions on the highway project will be barred unless the claim is filed on or before August 30, 2021. If the Federal law that authorizes judicial review of a claim provides a time period of less than 150 days for filing such claim, then that shorter time period still applies.

FOR FURTHER INFORMATION CONTACT: For Caltrans: Renetta Cloud, Branch Chief of Environmental Studies “A”, California Department of Transportation, District 8, 464 W. Fourth Street, MS-823, San Bernardino, CA 92401-1400. Phone: (909) 383-6323, Email: renetta.cloud@dot.ca.gov. For FHWA, contact David Tedrick at (916) 498-5024 or email david.tedrick@dot.gov.

SUPPLEMENTARY INFORMATION: By this notice, the FHWA, on behalf of Caltrans, is advising the public of final agency actions subject to 23 U.S.C. 139(l)(1). Effective July 1, 2007, the FHWA assigned, and Caltrans assumed, environmental responsibilities for this project pursuant to 23 U.S.C. 327. Notice is hereby given that the Caltrans, has taken final agency actions subject to 23 U.S.C. 139(l)(1) by issuing licenses, permits, and approvals for the following highway project in the State of California: Replace Morrill Canyon Bridge (Bridge No. 56 0169, Post Mile 3.08) and Strawberry Creek Bridge (Bridge No. 56 0180, Post Mile 53.5) on State Route 74 in Riverside County. The existing bridges have nonstandard bridge rails that do not meet current federal crash standards and also have nonstandard lane and shoulder widths. The actions by the Federal agencies, and the laws under which such actions were taken, are described in the Final Environmental Assessment (FEA)/Finding of No Significant Impact (FONSI) for the project, approved on March 19, 2021, and in other documents in the Caltrans' project records. The FEA, FONSI and other project records are available by contacting Caltrans at the addresses provided above. The Caltrans FEA, FONSI can be viewed and downloaded from the project website at https://www.sr74bridgereplacement.com/, or at the State of California, Governor's Office of Planning and Research CEQAnet Web Portal at: https://ceqanet.opr.ca.gov/Project/2021010067.

This notice applies to all Federal agency decisions as of the issuance date of this notice and all laws under which such actions were taken, including but not limited to:

1. Council on Environmental Quality Regulations

2. National Environmental Policy Act of 1969, as amended, 42 U.S.C. 4321 et seq.

3. Federal-Aid Highway Act of 1970, 23 U.S.C. 109

4. MAP-21, the Moving Ahead for Progress in the 21st Century Act (Pub. L. 112-141)

5. Clean Air Act Amendments of 1990 (CAAA)

6. Clean Water Act of 1977 and 1987

7. Federal Water Pollution Control Act of 1972 (see Clean Water Act of 1977 and 1987)

8. Endangered Species Act of 9173

9. Executive Order 11990, Protection of Wetlands

10. Executive Order 13112, Invasive Species

11. Executive Order 13186, Migratory Birds

12. Fish and Wildlife Coordination Act of 1934, as amended

13. Migratory Bird Treaty Act

14. Executive Order 11988, Floodplain Management

15. Department of Transportation (DOT) Executive Order 5650.2—Floodplain Management and Protection (April 23, 1979)

16. Rivers and Harbors Appropriation Act of 1899, Section 9 and 10

17. Title VI of the Civil Rights Act of 1964, as amended

(Catalog of Federal Domestic Assistance Program Number 20.205, Highway Planning and Construction. The regulations implementing Executive Order 12372 regarding intergovernmental consultation on Federal programs and activities apply to this program.)

Authority: 23 U.S.C. 139(l)(1).

Issued on: March 30, 2021.
Rodney Whitfield,
Director, Financial Services, Federal Highway Administration, California Division.

[FR Doc. 2021-06858 Filed 4-1-21; 8:45 am]

BILLING CODE 4910-RY-P